DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 8, 2006.

Interested persons are invited to submit written comments regarding the subject matter of the investigations to the Director, Division of Trade Adjustment Assistance, at the address shown below, not later than December 8, 2006.

The petitions filed in this case are available for inspection at the Office of the Director, Division of Trade Adjustment Assistance, Employment and Training Administration, U.S. Department of Labor, Room C-5311, 200 Constitution Avenue, NW., Washington, DC 20210.

Signed at Washington, DC, this 20th day of November 2006.
Linda G. Poole,
Certifying Officer, Division of Trade Adjustment Assistance.

Appendix
[TAA petitions instituted between 11/13/06 and 11/17/06]
TA-W | Subject firm (petitioners) | Location | Date of institution | Date of petition
60397 | Dana Corporation Thermal Products Division (Comp) | Sheffield, PA | 11/13/06 | 11/09/06
60398 | Western Industries (Union) | Chilton, WI | 11/13/06 | 11/08/06
60399 | Customized Manufacturing, Inc. (Comp) | McKenzie, TN | 11/13/06 | 11/08/06
60400 | Unum Provident (Wkrs) | Portland, ME | 11/13/06 | 11/07/06
60401 | Pimalco Inc. (Wkrs) | Chandler, AZ | 11/13/06 | 11/09/06
60402 | Hayes Products, LLC (Wkrs) | Buena Park, CA | 11/13/06 | 11/07/06
60403 | Metolius Mountain Products (Comp) | Bend, OR | 11/13/06 | 11/09/06
60404 | Dickten Masch Plastics (Union) | Hattiesburg, MS | 11/13/06 | 11/09/06
60405 | Employment Solutions (State) | Fort Collins, CO | 11/13/06 | 11/10/06
60406 | A.O. Smith Electrical Products Co. (Comp) | Scottsville, KY | 11/13/06 | 11/09/06
60407 | Shoreline Industries (Wkrs) | Benton Harbor, MI | 11/13/06 | 11/07/06
60408 | Textram, Inc. (Wkrs) | Charlotte, NC | 11/14/06 | 11/08/06
60409 | Davis International (Wkrs) | Okolona, MS | 11/14/06 | 11/08/06
60410 | Ames True Temper (IAMAW) | Delaware, OH | 11/14/06 | 11/10/06
60411 | Littelfuse, Inc. (Comp) | Des Plaines, IL | 11/14/06 | 11/09/06
60412 | Kwikset Corporation (Comp) | Denison, TX | 11/14/06 | 10/25/06
60413 | Bendix (Union) | Frankfort, KY | 11/14/06 | 11/10/06
60414 | Print, Inc. (Wkrs) | Gilbert, AZ | 11/14/06 | 11/13/06
60415 | United Healthcare (Wkrs) | Hartford, CT | 11/14/06 | 11/10/06
60416 | Moore's Machine Company of Fayetteville, Inc. (Comp) | Fayetteville, NC | 11/14/06 | 11/09/06
60417 | Whirlpool Corporation (IUECWA) | Evansville, IN | 11/14/06 | 11/07/06
60418 | Vesuvius USA (Comp) | Fisher, IL | 11/14/06 | 11/10/06
60419 | I&W Industries, LLC (Comp) | Traverse City, MI | 11/14/06 | 11/09/06
60420 | Mesick Precision Co., Inc. (Wkrs) | Mesick, MI | 11/14/06 | 10/29/06
60421 | Fisher & Company, Inc. (Comp) | St. Clair Shores, MI | 11/14/06 | 10/11/06
60422 | Ahlstrom LLC (Wkrs) | Mt. Holly Springs, PA | 11/14/06 | 10/26/06
60423 | 3M (Comp) | Columbia, MO | 11/14/06 | 11/13/06
60424 | Creative Engineered Products, LLC (Wkrs) | Akron, OH | 11/14/06 | 11/07/06
60425 | Steed Sales Company, Inc. (Comp) | Bowdon, GA | 11/14/06 | 11/13/06
60426 | Haldex Brakes Products Corp. (Union) | Paris, TN | 11/14/06 | 11/13/06
60427 | RBC Tyson Bearing (Wkrs) | Glasgow, KY | 11/14/06 | 10/02/06
60428 | Boc Edwards (Wkrs) | Philadelphia, PA | 11/14/06 | 11/06/06
60429 | Xyron Inc. (Wkrs) | Garden Grove, CA | 11/14/06 | 10/26/06
60430 | JP Morgan Chase (Comp) | Louisville, KY | 11/14/06 | 11/13/06
60431 | Jackson, Tennessee Plant (Comp) | Jackson, TN | 11/15/06 | 11/06/06
60432 | Visteon Systems LLC North Penn Plant (UAW) | Lansdale, PA | 11/15/06 | 11/14/06
60433 | Moll Industries/Fort Smith Div. (Comp) | Fort Smith, AR | 11/15/06 | 10/30/06
60434 | Hi Specialty America (Comp) | Irwin, PA | 11/15/06 | 11/07/06
60435 | Ford Motors (Wkrs) | St. Paul, MN | 11/15/06 | 11/14/06
60436 | Watts Regulator (Wkrs) | Spindale, NC | 11/15/06 | 11/10/06
60437 | Euclid Industries, Inc. (Comp) | Bay City, MI | 11/15/06 | 11/13/06
60438 | Graphic Electronics Inc. (Wkrs) | Tulsa, OH | 11/15/06 | 11/14/06
60439 | Freudenberg (Comp) | Scottsburg, IN | 11/15/06 | 11/14/06
60440 | Excelsior AEP, Inc. (Wkrs) | Yonkers, NY | 11/15/06 | 11/14/06
60441 | ITW Tomco (Comp) | Bryan, OH | 11/15/06 | 11/13/06
60442 | Northern Hardwoods (Comp) | South Range, MI | 11/15/06 | 11/14/06
60443 | Vacumet Corporation (Comp) | Wayne, NJ | 11/16/06 | 11/14/06
60444 | Thermo Fisher Scientific—RMSI (Comp) | Santa Fe, NM | 11/16/06 | 11/13/06
60445 | Manchester Tool Company (USWA) | Akron, OH | 11/16/06 | 11/14/06
60446 | Vollrath Company (Wrks) | Oconomowoc, WI | 11/16/06 | 11/09/06
60447 | Honeywell Aerospace (State) | Phoenix, AZ | 11/16/06 | 11/06/06
60448 | VF Jeanswear Limited Partnership (Comp) | Winston Salem, NC | 11/16/06 | 11/14/06
60449 | Cambridge Lee Industries, LLC (Comp) | Reading, PA | 11/16/06 | 11/09/06
60450 | Richards Apex, Inc. (Wrks) | Morgantown, PA | 11/16/06 | 11/08/06
60451 | Kester, Inc. (Comp) | Des Plaines, IL | 11/16/06 | 10/19/06
60452 | Coleman Cable (Comp) | Siler City, NC | 11/16/06 | 11/15/06
60453 | Black and Decker (Comp) | Fayetteville, NC | 11/17/06 | 11/16/06
60454 | Forest City Technologies—Wixom (Wkrs) | Wixom, MI | 11/17/06 | 11/16/06
60455 | Malabar Manufacturing, Inc. (Comp) | Hudson, MI | 11/17/06 | 11/16/06
60456 | American Wood Dryers, Inc. (Union) | Clackamas, OR | 11/17/06 | 11/14/06

[FR Doc. E6-20065 Filed 11-27-06; 8:45 am]

BILLING CODE 4510-30-P